DEPARTMENT OF TRANSPORTATION

Federal Aviation Administration

Aging Transport Systems Rulemaking Advisory Committee Meeting

AGENCY: Federal Aviation Administration (FAA), DOT.

ACTION: Notice of public meeting.

SUMMARY: This notice announces a public meeting of the FAA's Aging Transport Systems Rulemaking Advisory Committee (ATSRAC).

DATES: The FAA will hold the meeting on January 22 and 23, 2003, in Savannah, Georgia from 8:30 a.m. to 4:30 p.m. on the 22nd and from 8:30 a.m. to noon on the 23rd.

ADDRESSES: Hyatt Regency Savannah, 2 West Bay Street, Savannah, Georgia, 31401.

FOR FURTHER INFORMATION CONTACT: Shirley Stroman, Office of Rulemaking, ARM-208, FAA, 800 Independence Avenue, SW, Washington, DC 20591; telephone (202)267-7470; fax (202)267-5075; or e-mail shirley.stroman@faa.gov.

SUPPLEMENTARY INFORMATION: The ATSRAC will meet at the Hyatt Regency Savannah at the address shown under the ADDRESSES heading in this notice. The meeting agenda will include the following:

• Presentation of Working Group 10's (Small Transport Airplane Harmonization Working Group) final report

• Discussion of comments on the FAA's Intrusive Inspection Recommendations Final Report

• Discussion of ATSRAC's recommendation to the FAA on an Enhanced Zonal Analysis Procedure implementation schedule

• Update on FAA's Research and Development Program

• Presentation by Robins Air Force Base: Lubricant Effectiveness Study for Corrosion Protection and Improved Reliability of Avionics

The meeting is open to the public, but attendance will be limited to the availability of meeting room space. The FAA will make the following services available if you request them by January 14, 2003:

• Teleconferencing

• Sign and oral interpretation

• A listening device

Individuals using the teleconferencing service and calling from outside the Washington, DC metropolitan area will be responsible for paying long distance charges. To arrange for any of the above services, contact the person listed under the FOR FURTHER INFORMATION CONTACT heading of this notice.

The public may present written statements to the Committee at any time by providing 20 copies to the Committee's Executive Director or by bringing the copies to the meeting. Public statements will be considered if time permits.

Issued in Washington, DC on December 23, 2002.
Anthony F. Fazio,
Director, Office of Rulemaking.

[FR Doc. 02-33110 Filed 12-31-02; 8:45 am]

BILLING CODE 4910-13-P